OFFICE OF PERSONNEL MANAGEMENT

5 CFR Part 532

RIN 3206-AL74

Prevailing Rate Systems; Abolishment of Santa Clara, CA, as a Nonappropriated Fund Federal Wage System Wage Area

AGENCY: U.S. Office of Personnel Management.

ACTION: Interim rule with request for comments.

SUMMARY: The U.S. Office of Personnel Management is issuing an interim rule to abolish the Santa Clara, California, nonappropriated fund (NAF) Federal Wage System (FWS) wage area and redefine Santa Clara County, CA, to the Monterey, CA, NAF wage area and Alameda, Contra Costa, and San Francisco Counties, CA, to the Solano, CA, NAF wage area. San Mateo County, CA, will no longer be defined. These changes are necessary because the closure of the Moffett Federal Airfield Navy Exchange will leave the Santa Clara wage area without an activity having the capability to conduct a local wage survey.

DATES: Effective Date: This regulation is effective on November 4, 2008. We must receive comments on or before December 4, 2008. Applicability date: FWS employees remaining in the Santa Clara wage area will be transferred to the Monterey and Solano wage area schedules on the first day of the first applicable pay period beginning on or after November 15, 2008.

ADDRESSES: Send or deliver comments to Charles D. Grimes III, Deputy Associate Director for Performance and Pay Systems, Strategic Human Resources Policy Division, U.S. Office of Personnel Management, Room 7H31, 1900 E Street, NW., Washington, DC 20415-8200; e-mail pay-performance-policy@opm.gov; or FAX: (202) 606-4264.

FOR FURTHER INFORMATION CONTACT: Madeline Gonzalez, (202) 606-2838; e-mail pay-performance-policy@opm.gov; or FAX: (202) 606-4264.

SUPPLEMENTARY INFORMATION: The Santa Clara, California, nonappropriated fund (NAF) Federal Wage System (FWS) wage area is presently composed of one survey county, Santa Clara County, CA, and four area of application counties, Alameda, Contra Costa, San Francisco, and San Mateo Counties, CA. Under section 532.219 of title 5, Code of Federal Regulations, the U.S. Office of Personnel Management (OPM) may establish an NAF wage area when there are a minimum of 26 NAF wage employees in the survey area, the local activity has the capability to host annual local wage surveys, and the survey area has at least 1,800 private enterprise employees in establishments within survey specifications. The Department of Defense (DOD) notified OPM that the Moffett Federal Airfield Navy Exchange has closed, leaving the Santa Clara NAF wage area without an activity having the capability to conduct a local wage survey. The NAF FWS employment in Santa Clara County is currently 9 employees at the Moffett Navy Lodge and 17 employees at the VA Medical Center in Palo Alto. DOD recommended that OPM abolish the Santa Clara NAF FWS wage area and redefine Santa Clara County to the Monterey, CA, NAF wage area and Alameda, Contra Costa, and San Francisco Counties to the Solano, CA, NAF wage area.

Since Santa Clara, Alameda, Contra Costa, and San Francisco Counties will have continuing NAF employment and do not meet the regulatory criteria under 5 CFR 532.219 to be separate survey areas, they must be areas of application. In defining counties as area of application counties, OPM considers the following criteria:

(i) Proximity of largest facilities activity in each county;

(ii) Transportation facilities and commuting patterns; and

(iii) Similarities of the counties in:

(A) Overall population;

(B) Private employment in major industry categories; and

(C) Kinds and sizes of private industrial establishments.

In selecting a wage area to which Santa Clara County should be redefined, proximity favors the Monterey NAF wage area. All other criteria are inconclusive. Based on these findings, OPM is defining Santa Clara County as an area of application to the Monterey NAF wage area.

In selecting a wage area to which Alameda County should be redefined, proximity favors the San Joaquin wage area over the Solano wage area by approximately 1 mile. All other criteria are inconclusive. Based on the mixed nature of the regulatory analysis findings, we believe the fact that Alameda is geographically linked to Contra Costa, with both counties encompassing the greater Oakland area, provides strong evidence that Alameda and Contra Costa should remain together. Therefore, OPM is defining Alameda County as an area of application to the Solano wage area.

In selecting a wage area to which Contra Costa County should be redefined, proximity favors the Solano wage area. Commuting patterns very slightly favor the Solano wage area. All other criteria are inconclusive. Based on the mixed nature of the regulatory analysis findings, we believe the fact that Contra Costa is geographically linked to Alameda, with both counties encompassing the greater Oakland area, provides strong evidence that Alameda and Contra Costa should remain together. Therefore, OPM is defining Contra Costa County as an area of application to the Solano wage area.

In selecting a wage area to which San Francisco County should be redefined, proximity favors the Solano wage area. All other criteria are inconclusive. Based on these findings, OPM is defining San Francisco County as an area of application to the Solano wage area.

OPM is removing San Mateo County from the wage area definition. There are no longer NAF FWS employees working in San Mateo County. Under 5 U.S.C. 5343(a)(1)(B)(i), NAF wage areas “shall not extend beyond the immediate locality in which the particular prevailing rate employees are employed.” Therefore, San Mateo County should not be defined as part of an NAF wage area.

The Monterey NAF wage area would consist of one survey county, Monterey County, and one area of application county, Santa Clara County. The Solano NAF wage area would consist of one survey county, Solano County, and six area of application counties: Alameda, Contra Costa, Marin, Napa, San Francisco, and Sonoma Counties. FWS employees remaining in the Santa Clara wage area will be transferred to the Monterey and Solano wage area schedules on the first day of the first applicable pay period beginning on or after November 15, 2008. The Federal Prevailing Rate Advisory Committee, the national labor-management committee responsible for advising OPM on matters concerning the pay of FWS employees, has reviewed and recommended these changes by consensus.

Waiver of Notice of Proposed Rulemaking and Delay in Effective Date

Pursuant to 5 U.S.C. 553(b)(3)(B) and (d)(3), I find that good cause exists to waive the general notice of proposed rulemaking. Also pursuant to 5 U.S.C. 553(d)(3), I find that good cause exists for making this rule effective in less than 30 days. This notice is being waived and the regulation is being made effective in less than 30 days because the closure of the Moffett Federal Airfield Navy Exchange will leave the Santa Clara wage area without an activity having the capability to conduct a local wage survey and the remaining NAF FWS employees in Santa Clara, Alameda, Contra Costa, and San Francisco Counties must be transferred to a continuing wage area as soon as possible.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

Office of Personnel Management.
Michael W. Hager,
Acting Director.

Accordingly, the U.S. Office of Personnel Management is amending 5 CFR part 532 as follows:

PART 532—PREVAILING RATE SYSTEMS

1. The authority citation for part 532 continues to read as follows:

Authority: 5 U.S.C. 5343, 5346; § 532.707 also issued under 5 U.S.C. 552.

Appendix B to Subpart B of Part 532—Nationwide Schedule of Nonappropriated Fund Regular Wage Surveys

2. Appendix B to subpart B is amended by removing, under the State of California, “Santa Clara.”

Appendix D to Subpart B of Part 532—Nonappropriated Fund Wage and Survey Areas

3. Appendix D to subpart B is amended for the State of California by removing the wage area listing for Santa Clara, California, and revising the wage area listing for Monterey and Solano, California, to read as follows:

* * * * *

California

* * * * *

Monterey

Survey Area

California:

Monterey.

Area of application. Survey area plus:

California:

Santa Clara.

* * * * *

Solano

Survey Area

California:

Solano.

Area of application. Survey area plus:

California:

Alameda.

Contra Costa.

Marin.

Napa.

San Francisco.

Sonoma.

[FR Doc. E8-26274 Filed 11-3-08; 8:45 am]

BILLING CODE 6325-39-P